DEPARTMENT OF DEFENSE

Office of the Secretary

[Transmittal No. 20-60]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-60 with attached Policy Justification and Sensitivity of Technology.

Dated: December 7, 2020.
Kayyonne T. Marston,
Alternate OSD Federal Register Liaison Officer, Department of Defense.

BILLING CODE 5001-06-P

BILLING CODE 5001-06-C

Transmittal No. 20-60

Notice of Proposed Issuance of Letter of Offer Pursuant to Section 36(b)(1) of the Arms Export Control Act, as amended

(i) Prospective Purchaser: Republic of Korea

(ii) Total Estimated Value:

Major Defense Equipment * | $135.9 million
Other | $ 22.2 million
Total | $158.1 million

(iii) Description and Quantity or Quantities of Articles or Services under Consideration for Purchase:

Major Defense Equipment (MDE):

One hundred fifteen (115) AIM-9X Block II Tactical Sidewinder Missiles

Fifty (50) AIM-9X Block II Captive Air Training Missiles (CATM)

Twenty (20) AIM-9X Block II Tactical Missile Guidance Units

Twenty (20) AIM-9X Block II CATM Guidance Units

Non-MDE:

Also included are containers, weapon system support, software, surface transportation, missile technical assistance, and other technical assistance; and other related elements of program support.

(iv) Military Department: Navy (KS-P-AMV)

(v) Prior Related Cases, if any: KS-P-ALE

(vi) Sales Commission, Fee, etc., Paid, Offered, or Agreed to be Paid: None

(vii) Sensitivity of Technology Contained in the Defense Article or Defense Services Proposed to be Sold: See Attached Annex

(viii) Date Report Delivered to Congress: October 1, 2020

* As defined in Section 47(6) of the Arms Export Control Act.

POLICY JUSTIFICATION

Korea—AIM-9X Block II Tactical Sidewinder Missiles

The Republic of Korea has requested to buy one hundred fifteen (115) AIM-9X Block II Tactical Sidewinder missiles; fifty (50) AIM-9X Block II Captive Air Training Missiles (CATM); twenty (20) AIM-9X Block II Tactical Missile Guidance Units; and twenty (20) AIM-9X Block II CATM Guidance Units. Also included are containers, weapon system support, software, surface transportation, missile technical assistance, and other technical assistance; and other related elements of program support. The estimated total cost is $158.1 million.

This proposed sale will support the foreign policy goals and national security objectives of the United States by helping to improve the security of a treaty ally that continues to be an important force for political stability, peace, and economic progress in North East Asia.

The proposed sale will assist the Republic of Korea in developing and maintaining a strong and ready self-defense capability. The Republic of Korea will have no difficulty absorbing these missiles into its armed forces.

The proposed sale of this equipment and support will not alter the basic military balance in the region.

The principal contractor will be Raytheon Corporation, Tucson, AZ. There are no known offset agreements proposed in connection with this potential sale.

Implementation of this proposed sale will not require the assignment of any additional U.S. Government or contractor representatives to the Republic of Korea.

There will be no adverse impact on U.S. defense readiness as a result of this proposed sale.

Transmittal No. 20-60

Notice of Proposed Issuance of Letter of Offer Pursuant to Section 36(b)(1) of the Arms Export Control Act

Annex

Item No. vii

(vii) Sensitivity of Technology:

1. The AIM-9X Block II SIDEWINDER Missile is a short-range, air-to-air missile. The AIM-9X Block II SIDEWINDER Missile provides a high off-boresight seeker, enhanced countermeasure rejection capability, low drag/high angle of attack airframe and the ability to integrate the Helmet Mounted Cueing System. The software algorithms are the most sensitive portion of the AIM-9X missile. The software continues to be modified via a pre-planned product improvement (P³I) program in order to improve its counter-countermeasure capabilities. No software source code or algorithms will be released.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Republic of Korea can provide substantially the same degree of protection for the sensitive technology being released as the U.S. Government. This sale is necessary in furtherance of the U.S. foreign policy and national security objectives outlined in the Policy Justification.

5. All defense articles and services listed in this transmittal have been authorized for release and export to the Republic of Korea.

[FR Doc. 2020-27185 Filed 12-9-20; 8:45 am]

BILLING CODE 5001-06-P